DEPARTMENT OF COMMERCE

International Trade Administration

[Application No. 99-4A005]

Export Trade Certificate of Review

ACTION: Notice of Issuance (#99-4A005) of an Amended Export Trade Certificate of Review to the California Almond Export Association, LLC.

SUMMARY: The U.S. Department of Commerce issued an amended Export Trade Certificate of Review to the California Almond Export Association, LLC (“CAEA”) on June 1, 2010. The previous amendment was issued to CAEA on May 25, 2007, and a notice of its issuance was published in the Federal Register on June 4, 2007 (72 FR 30775). The original Certificate for CAEA was issued on December 27, 1999, and a notice of its issuance was published in the Federal Register on January 6, 2000 (65 FR 760).

FOR FURTHER INFORMATION CONTACT: Joseph E. Flynn, Director Office of Competition and Economic Analysis, International Trade Administration, by telephone at (202) 482-5131 (this is not a toll-free number) or by e-mail at etca@trade.gov.

SUPPLEMENTARY INFORMATION: Title III of the Export Trading Company Act of 1982 (15 U.S.C. Sections 4001-21) authorizes the Secretary of Commerce to issue Export Trade Certificates of Review. The regulations implementing Title III are found at 15 CFR Part 325 (2010).

The Office of Competition and Economic Analysis is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

CAEA's Export Trade Certificate of Review has been amended to:

1. Add the following company as a new Member of the Certificate within the meaning of section 325.2(1) of the Regulations (15 CFR 325.2(1)): Mariani Nut Company, Winters, CA;

2. Change the listing of the following Member: “South Valley Farms, Wasco, California” to read “South Valley Almond Company, LLC”; and

3. Delete the following Members from the Certificate: A & P Growers Cooperative, Inc.; Gold Hills Nut Co., Inc.; Harris Woolf California Almonds; Golden West Nuts, Inc.; and RPAC, LLC.

The effective date of the amended certificate is March 1, 2010, the date on which CAEA's application to amend was deemed submitted. A copy of the amended certificate will be kept in the International Trade Administration's Freedom of Information Records Inspection Facility, Room 4001, U.S. Department of Commerce, 14th Street and Constitution Avenue, NW., Washington, DC 20230.

Dated: June 8, 2010.
Joseph E. Flynn,
Director, Office of Competition and Economic Analysis.

[FR Doc. 2010-15004 Filed 6-21-10; 8:45 am]

BILLING CODE 3510-DR-P